DEPARTMENT OF COMMERCE

International Trade Administration

[C-533-844]

Certain Lined Paper Products From India: Final Results of Expedited Second Sunset Review of Countervailing Duty Order

AGENCY: Enforcement and Compliance, International Trade Administration, Department of Commerce.

SUMMARY: On July 3, 2017, the Department of Commerce (the Department) initiated a sunset review of the countervailing duty (CVD) order on certain lined paper products from India pursuant to section 751(c) of the Tariff Act of 1930, as amended (the Act). The Department has conducted an expedited sunset review of this order pursuant to the Act and 19 CFR 351. As a result of this sunset review, the Department finds that revocation of the CVD order is likely to lead to continuation or recurrence of a countervailable subsidy at the levels indicated in the “Final Results of Review” section of this notice.

DATES: Applicable November 6, 2017.

FOR FURTHER INFORMATION CONTACT: John Conniff, AD/CVD Operations, Office III, Enforcement and Compliance, International Trade Administration, U.S. Department of Commerce, 1401 Constitution Avenue NW., Washington, DC 20230; telephone: 202-482-1009.

SUPPLEMENTARY INFORMATION:

Background

The CVD order on certain lined paper products from India was published in the Federal Register on September 28, 2006.¹ On July 3, 2017, the Department initiated the second sunset review of this CVD order pursuant to section 751(c) of the Act.² On July 18, 2017, we received a notice of intent to participate on behalf of the Association of American School Paper Suppliers and each of its individual members (AASPS, hereinafter referred to as the domestic interested party), an association of domestic producers of lined paper products.³ The domestic interested party claimed interested party status under sections 771(9)(F) and (C) of the Act, because it is comprised of an association of U.S. producers of the domestic like product and the individual members of the association, which are manufacturers, producers, or wholesalers in the United States of the domestic like product.⁴ On August 2, 2017, the domestic interested party submitted its substantive response within the 30-day deadline specified in 19 CFR 351.218(d)(3)(i).⁵ The Department did not receive any substantive response from the Government of India, or Indian producers or exporters of the merchandise covered by the CVD order. As a result, pursuant to section 751(c)(3)(B) of the Act and 19 CFR 351.218(e)(1)(ii)(C)(2), the Department conducted an expedited review of the CVD order. This approach is consistent with the Department's practice, including the prior sunset review of this CVD order.⁶ The Department did not conduct a hearing because a hearing was not requested.

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006).

² See Initiation of Five-Year (Sunset) Reviews, 82 FR 30844 (July 3, 2017).

³ See Letter from the Domestic Interested Party, “Certain Lined Paper Products from India: Notice of Intent to Participate in Sunset Review,” dated July 18, 2017.

⁴ Id. at 1-2.

⁵ See Letter from the Domestic Interested Party, “Certain Lined Paper Products from India: Substantive Response to Notice of Initiation of Sunset Review,” dated August 2, 2017.

⁶ See, e.g., Welded Carbon Steel Pipe and Tube From Turkey: Final Results of Expedited Sunset Review of Countervailing Duty Order, 76 FR 64900 (October 19, 2011); Certain Pasta from Turkey: Final Results of Expedited Five-Year (“Sunset”) Review of the Countervailing Duty Order, 72 FR 5269 (February 5, 2007); and Certain Carbon Steel Products from Sweden; Final Results of Expedited Sunset Review of Countervailing Duty Order, 65 FR 18304 (April 7, 2000). See also Final Results of Expedited Sunset Review of Countervailing Duty Order: Certain Lined Paper Products From India, 76 FR 76147 (December 6, 2011).

Scope of the Order

The scope of this order includes certain lined paper products, typically school supplies,⁷ composed of or including paper that incorporates straight horizontal and/or vertical lines on ten or more paper sheets,⁸ including but not limited to such products as single- and multi-subject notebooks, composition books, wireless notebooks, loose leaf or glued filler paper, graph paper, and laboratory notebooks, and with the smaller dimension of the paper measuring 6 inches to 15 inches (inclusive) and the larger dimension of the paper measuring 8¾ inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of this order whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated, included with, or attached to the product, cover and/or backing thereto.

⁷ For purposes of this scope definition, the actual use or labeling of these products as school supplies or non-school supplies is not a defining characteristic.

⁸ There shall be no minimum page requirement for loose leaf filler paper.

Specifically excluded from the scope of this order are:

• Unlined copy machine paper;

• writing pads with a backing (including but not limited to products commonly known as “tablets,” “note pads,” “legal pads,” and “quadrille pads”), provided that they do not have a front cover (whether permanent or removable). This exclusion does not apply to such writing pads if they consist of hole-punched or drilled filler paper;

• three-ring or multiple-ring binders, or notebook organizers incorporating such a ring binder provided that they do not include subject paper;

• index cards;

• printed books and other books that are case bound through the inclusion of binders board, a spine strip, and cover wrap;

• newspapers;

• pictures and photographs;

• desk and wall calendars and organizers (including but not limited to such products generally known as “office planners,” “time books,” and “appointment books”);

• telephone logs;

• address books;

• columnar pads & tablets, with or without covers, primarily suited for the recording of written numerical business data;

• lined business or office forms, including but not limited to: Pre-printed business forms, lined invoice pads and paper, mailing and address labels, manifests, and shipping log books;

• lined continuous computer paper;

• boxed or packaged writing stationary (including but not limited to products commonly known as “fine business paper,” “parchment paper,” and “letterhead”), whether or not containing a lined header or decorative lines;

• Stenographic pads (“steno pads”), Gregg ruled,⁹ measuring 6 inches by 9 inches;

⁹ “Gregg ruling” consists of a single- or double-margin vertical ruling line down the center of the page. For a six-inch by nine-inch stenographic pad, the ruling would be located approximately three inches from the left of the book.

Also excluded from the scope of this order are the following trademarked products:

• Fly™ lined paper products: A notebook, notebook organizer, loose or glued note paper, with papers that are printed with infrared reflective inks and readable only by a Fly™ pen-top computer. The product must bear the valid trademark Fly™.¹⁰

¹⁰ Products found to be bearing an invalidly licensed or used trademark are not excluded from the scope.

• Zwipes™: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™.¹¹

¹¹ Products found to be bearing an invalidly licensed or used trademark are not excluded from the scope.

• FiveStar®Advance™: A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1″ wide elastic fabric band. This band is located 2⅜″ from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar®Advance™.¹²

¹² Products found to be bearing an invalidly licensed or used trademark are not excluded from the scope.

• FiveStar Flex™: A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover. The product must bear the valid trademark FiveStar Flex™.¹³

¹³ Products found to be bearing an invalidly licensed or used trademark are not excluded from the scope.

Merchandise subject to this order is typically imported under headings 4810.22.5044, 4811.90.9050, 4811.90.9090, 4820.10.2010, 4820.10.2020, 4820.10.2030, 4820.10.2040, 4820.10.2050, 4820.10.2060, and 4820.10.4000 of the Harmonized Tariff Schedule of the United States (HTSUS). The HTSUS headings are provided for convenience and customs purposes; however, the written description of the scope of the order is dispositive.

Analysis of Comments Received

All issues raised in this review are addressed in the Issues and Decision Memorandum, which is dated concurrently with, and hereby adopted by, this notice.¹⁴ The issues discussed in the Issues and Decision Memorandum include the likelihood of continuation or recurrence of a countervailable subsidy and the net countervailable subsidy likely to prevail if the CVD order were revoked. Parties can find a complete discussion of all issues raised in this expedited sunset review and the corresponding recommendations in this public memorandum, which is on file electronically via the Enforcement and Compliance Antidumping and Countervailing Duty Centralized Electronic Service System (ACCESS). ACCESS is available to registered users at https://access.trade.gov and to all parties in the Central Records Unit, Room B8024 of the main Department of Commerce building. In addition, a complete version of the Issues and Decision Memorandum can be accessed directly on the Internet at http://enforcement.trade.gov/frn/index.html. The signed Issues and Decision Memorandum and the electronic versions of the Issues and Decision Memorandum are identical in content.

¹⁴ See Memorandum regarding: “Issues and Decision Memorandum for the Final Results of Expedited Second Sunset Review of the Countervailing Duty Order on Certain Lined Paper Products from India,” dated concurrently with this notice.

Final Results of Review

As a result of this review, the Department determines that revocation of the CVD order would likely lead to continuation or recurrence of a countervailable subsidy at the rates listed below:

Producer/exporter | Net countervailable subsidy rate (percent)
Aero Exports | 84.98
Navneet Publications | 88.39
All Others | 87.52

Notification Regarding Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a sanctionable violation.

We are issuing and publishing the final results of this review in accordance with sections 751(c), 752, and 777(i) of the Act.

Dated: October 31, 2017.
Gary Taverman,
Deputy Assistant Secretary for Antidumping and Countervailing Duty Operations, performing the non-exclusive functions and duties of the Assistant Secretary for Enforcement and Compliance.

[FR Doc. 2017-24070 Filed 11-3-17; 8:45 am]

BILLING CODE 3510-DS-P